FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 5, 2018.

A. Federal Reserve Bank of Minneapolis (Mark A. Rauzi, Vice President), 90 Hennepin Avenue, Minneapolis, Minnesota 55480-0291:

1. Belva H. Rasmussen 2018-A Irrevocable Trust under Agreement dated April 26, 2018, and the Belva H. Rasmussen 2018-B Irrevocable Trust under Agreement dated April 26, 2018, both of Minneapolis, Minnesota (trustees Chris R. Fitzmorris, Little Canada, Minnesota; Teresa J. Rasmussen, Orono Minnesota; Eva B. Rasmussen, Edina, Minnesota; and Thomas M. Beck, Eden Prairie, Minnesota); to acquire voting shares of Northeast Securities Corporation, Minneapolis, Minnesota, and thereby indirectly acquire shares of Northeast Bank, Minneapolis, Minnesota.

In addition, the Notificants will join the Rasmussen family shareholder group acting in concert.

Board of Governors of the Federal Reserve System, October 15, 2018.
Yao-Chin Chao,
Assistant Secretary of the Board.

[FR Doc. 2018-22738 Filed 10-17-18; 8:45 am]

BILLING CODE P